ENVIRONMENTAL PROTECTION AGENCY

[EPA-HQ-OPP-2006-0907; FRL-8103-5]

The Association of American Pesticide Control Officials (AAPCO)/Full State FIFRA Issues Research and Evaluation Group (SFIREG); Notice of Public Meeting

AGENCY: Environmental Protection Agency (EPA).

ACTION: Notice.

SUMMARY: The Association of American Pesticide Control Officials (AAPCO)/Full State FIFRA Issues Research and Evaluation Group (SFIREG) will hold a 2-day meeting, beginning on December 4, 2006 and ending December 5, 2006. This notice announces the location and times for the meeting and sets forth the tentative agenda topics.

DATES: The meeting will be held on December 4, 2006 from 8.30 a.m. to 5 p.m. and 8:30 a.m. to 12 noon on December 5, 2006.

To request accommodation of a disability, please contact the person listed under FOR FURTHER INFORMATON CONTACT, preferably at least 10 days prior to the meeting, to give EPA as much time as possible to process your request.

ADDRESSES: The meeting will be held at Radisson Hotel Reagan National Airport, 2020 Jefferson Davis Highway, Arlington, VA 22202.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax number: (802) 472-6957; e-mail address: aapco@plainfield.bypass.com

SUPPLEMENTARY INFORMATION:

I. General Information

A. Does this Action Apply to Me?

You may be potentially affected by this action if you all parties interested in SFIREG information exchange relationship with EPA regarding important issues related to human health, environmental exposure to pesticides, and insight into EPA's decision-making process are invited and encouraged to attend the meetings and participate as appropriate. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPP-2006-0907. Publicly available docket materials are available either in the electronic docket at http://www.regulations.gov, or, if only available in hard copy at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Tentative Agenda

1. Electronic Labeling and Unique Label Identifiers

2. Drift Issues and Lessons Learned

3. Implementation of Container and Containment Regulations

4. OPP Performance Measures

5. Endangered Species Implementation Update and the Role of the Services in Enforcements.

6. Section 18 Renewal Process

7. Water Quality Benchmarks and Metabolite Issues

8. TPPC Issues and Participation in SFIREG

9. Review of “Parking Lot Issues”

10. EPA Update/Briefing

a. Office of Pesticide Programs Update

b. Office of Enforcement Compliance Assurance Update

11. Antimicrobials Division Notice on HVAC products

12. Regional/Working Committee Reports

List of Subjects

Environmental protection.

Dated: November 13, 2006.
William R. Diamond,
Director, Field External Affairs Division, Office of Pesticide Programs

[FR Doc. E6-19576 Filed 11-21-06; 8:45 am]

BILLING CODE 6560-50-S